DEPARTMENT OF AGRICULTURE

Submission for OMB Review; Comment Request

May 7, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Plum Pox Compensation.

OMB Control Number: 0579-0159.

Summary of Collection: Plum Pox is an extremely serious viral disease of plants that can affect may stone fruit species, including plum, peach, apricot, almond, and nectarine. The United States Department of Agriculture is responsible for preventing plant pests and noxious weeds for entering the United States; preventing the spread of pests new to the United States and eradicating those imported pests and weeds when eradication is feasible. The regulations in 7 CFR 301.74-5 permit owners of commercial stone fruit orchards and owners of fruit tree nurseries to receive compensation under certain circumstances. Owners of commercial stone fruit orchards may receive compensation for losses associated with trees destroyed to control plum pox pursuant to an emergency action notification (EAN) issued by the Animal & Plant Health Inspection Service (APHIS). APHIS will collect information using form PPQ 651 Application for Plum Pox Compensation.

Need and Use of the Information: APHIS will collect the owner's name and address, a description of the owner's property, and a certification statement that the trees removed from the owner's property were stone fruit trees from commercial fruit orchards or fruit tree nurseries. The owner's will also need to send APHIS a copy of the EAN ordering the destruction of their trees. If the information were not collected, APHIS would be unable to compensate eligible grove and nursery owners for the loss of their trees.

Description of Respondents: State, Local or Tribal Government.

Number of Respondents: 7.

Frequency of Responses: Reporting: On occasion.

Total Burden Hours: 1.

Animal Plant and Health Inspection Service

Title: Interstate Movement of Swine Within a Production System.

OMB Control Number: 0579-0161.

Summary of Collection: Disease prevention is the most effective method for maintaining a healthy animal population, and for enhancing the Animal Plant and Health Inspection Service (APHIS) ability to compete in the world market of animal and animal product trade. The Veterinary Services Division of APHIS is responsible for carrying out this disease prevention mission. The regulations under which APHIS conducts these disease prevention activities are contained in Title 9, Subchapter C of Chapter I, which governs the interstate movement of animals to prevent the dissemination of livestock and poultry diseases within the United States. Regulations in Part 71 contain requirements for moving swine interstate within a swine production system. (A production system consists of separate farms that each specialize in a different phase of swine production—sow herds, nursery herds, and finishing herds.) Moving swine interstate within a swine production system involves the use of two information collection activities in the form of a Swine Production Health Plan and an Interstate Swine Movement Report.

Need and Use of the Information: The Swine Production Health Plan is a document developed by participating swine producers, stating that all farms within the given swine production system will maintain the health of their swine and remain vigilant for any signs of communicable disease. The Interstate Swine Movement Report is a document initiated by swine producers to notify their accredited veterinarians, APHIS, and State regulatory officials in the States of origin and destination that a group of animals is being moved across State lines in a swine production system. Without the information, the movement of swine interstate within a swine production system would become less efficient and more time-consuming, consequently placing more financial and logistical burden on producers who regularly engage in this activity.

Description of Respondents: Farms.

Number of Respondents: 1,000.

Frequency of Responses: Reporting: On occasion.

Total Burden Hours: 1,000.

Ruth Brown,
Departmental Information Collection Clearance Officer.

[FR Doc. E7-9017 Filed 5-9-07; 8:45 am]

BILLING CODE 3410-34-P